FEDERAL COMMUNICATIONS COMMISSION

47 CFR Part 73

[MB Docket No. 11-20; RM-11619, DA 11-750]

Television Broadcasting Services; Kalispell, MT

AGENCY: Federal Communications Commission.

ACTION: Final rule.

SUMMARY: The Commission has before it a Notice of Proposed Rulemaking issued in response to a petition for rulemaking filed by Montana State University (“MSU″) requesting that channel *46 be transferred from the Pre-Transition DTV Table of Allotments, 47 CFR 73.622(b), to the Post-Transition Table of DTV Allotments, 47 CFR 73.622(i). MSU states that the grant of its rulemaking petition and application will serve the public interest by eliminating a substantial noncommercial educational white space area in northwest Montana and will further the Congressional mandate in Section 396(a)(9) of the Communications Act to ensure that all citizens have access to public telecommunications services.

DATES: This rule is effective June 13, 2011.

FOR FURTHER INFORMATION CONTACT: Adrienne Y. Denysyk, adrienne.denysyk@fcc.gov, Media Bureau, (202) 418-1600.

SUPPLEMENTARY INFORMATION: This is a synopsis of the Commission's Report and Order, MB Docket No. 11-20, adopted April 26, 2011, and released April 28, 2011. The full text of this document is available for public inspection and copying during normal business hours in the FCC's Reference Information Center at Portals II, CY-A257, 445 12th Street, SW., Washington, DC 20554. This document will also be available via ECFS (http://fjallfoss.fcc.gov/ecfs/). This document may be purchased from the Commission's duplicating contractor, Best Copy and Printing, Inc., 445 12th Street, SW., Room CY-B402, Washington, DC 20554, telephone 1-800-478-3160 or via the company's Web site, http://www.bcipweb.com. To request materials in accessible formats for people with disabilities (braille, large print, electronic files, audio format), send an e-mail to fcc504@fcc.gov or call the Consumer & Governmental Affairs Bureau at 202-418-0530 (voice), 202-418-0432 (tty).

This document does not contain information collection requirements subject to the Paperwork Reduction Act of 1995, Public Law 104-13. In addition, therefore, it does not contain any information collection burden “for small business concerns with fewer than 25 employees,″ pursuant to the Small Business Paperwork Relief Act of 2002, Public Law 107-198, see 44 U.S.C. 3506(c)(4). Provisions of the Regulatory Flexibility Act of 1980 do not apply to this proceeding.

The Commission will send a copy of this Report and Order in a report to be sent to Congress and the Government Accountability Office pursuant to the Congressional review Act, see 5 U.S.C. 801(a)(1)(A).

List of Subjects in 47 CFR Part 73

Television.

Federal Communications Commission.
Barbara A. Kreisman,
Chief, Video Division, Media Bureau.

Final Rule

For the reasons discussed in the preamble, the Federal Communications Commission amends 47 CFR part 73 as follows:

PART 73—RADIO BROADCAST SERVICES

1. The authority citation for part 73 continues to read as follows:

Authority: 47 U.S.C. 154, 303, 334, 336, and 339.

§ 73.622 [Amended]

2. Section 73.622(i), the Post-Transition Table of DTV Allotments under Montana, is amended by adding channel *46 at Kalispell.

[FR Doc. 2011-11843 Filed 5-12-11; 8:45 am]

BILLING CODE 6712-01-P